DEPARTMENT OF COMMERCE

National Oceanic and Atmospheric Administration

50 CFR Parts 300, 600, and 679

[Docket No.: 190925-0042]

RIN 0648-BI65

Fisheries of the Exclusive Economic Zone Off Alaska; Authorize the Retention of Halibut in Pot Gear in the BSAI; Amendment 118; Correction

AGENCY: National Marine Fisheries Service (NMFS), National Oceanic and Atmospheric Administration (NOAA), Commerce.

ACTION: Proposed rule; request for comments; correction.

SUMMARY: NMFS is correcting the proposed rule that published on October 3, 2019, to implement Amendment 118 to the Fishery Management Plan for Groundfish of the Bering Sea and Aleutian Islands Management Area (BSAI FMP) and a regulatory amendment to revise regulations on Vessel Monitoring System (VMS) requirements in the Bering Sea and Aleutian Islands (BSAI) and Gulf of Alaska (GOA). The proposed rule incorrectly stated the date of publication and the end of the comment period on the Notice of Availability, and this action corrects this error.

DATES: The proposed rule published on October 3, 2019 at 84 FR 52852 is corrected as of October 25, 2019.

FOR FURTHER INFORMATION CONTACT: Stephanie Warpinski, 907-586-7228.

SUPPLEMENTARY INFORMATION: On October 3, 2019, NMFS published a proposed rule to implement Amendment 118 to the Fishery Management Plan for Groundfish of the Bering Sea and Aleutian Islands Management Area (BSAI FMP) and a regulatory amendment to revise regulations on Vessel Monitoring System (VMS) requirements in the Bering Sea and Aleutian Islands (BSAI) and Gulf of Alaska (GOA) (84 FR 52852). The proposed rule is necessary to improve efficiency and provide economic benefits for the Individual Fishing Quota (IFQ) and Community Development Quota (CDQ) fleets, minimize whale depredation and seabird interactions in the IFQ and CDQ fisheries, and reduce the risk of exceeding an overfishing limit for any species.

Need for Correction

The Notice of Availability (NOA) for Amendment 118 to the BSAI FMP published on August 21, 2019, with a 60-day comment period through October 21, 2019 (84 FR 43570), as required under the Magnuson-Stevens Fishery Conservation and Management Act (16 U.S.C. 1854(a)). The proposed rule published on October 3, 2019, with public comment invited through November 4, 2019 (84 FR 52852). The proposed rule incorrectly identified the date the NOA for Amendment 118 published in the Federal Register and the end of the NOA comment period. NMFS is now correcting the proposed rule to reflect the correct dates for the NOA. NMFS is not changing the publication date or comment period date for the NOA, and NMFS provided a 60-day comment period on the NOA for Amendment 118 to the BSAI FMP. NMFS is not changing the comment period for the proposed rule, and all comments received by November 4, 2019, will be addressed in the response to comments in the final rule.

Correction

In the proposed rule, published October 3, 2019 (84 FR 52852) in the third column on page 52853, the paragraph before the Background heading is corrected to read as follows:

A notice of availability (NOA) for Amendment 118 was published in the Federal Register on August 21, 2019 (84 FR 43570) with comments invited through October 21, 2019. Comments submitted on this proposed rule by the end of the comment period (See DATES) will be considered by NMFS and addressed in the response to comments in the final rule. Comments submitted on this proposed rule may address Amendment 118 or this proposed rule. However, all comments addressing Amendment 118 must be received by October 21, 2019, to be considered in the approval/disapproval decision on Amendment 118. Commenters do not need to submit the same comments on both the NOA and this proposed rule. All relevant written comments received by October 21, 2019, whether specifically directed to the FMP amendment, this proposed rule, or both, will be considered by NMFS in the approval/disapproval decision for Amendment 118, and all relevant written comments received by November 4, 2019, will be addressed in the response to comments in the final rule.

Dated: October 21, 2019.
Samuel D. Rauch III,
Deputy Assistant Administrator for Regulatory Programs, National Marine Fisheries Service.

[FR Doc. 2019-23310 Filed 10-25-19; 8:45 am]

BILLING CODE 3510-22-P